DEPARTMENT OF AGRICULTURE

Submission for OMB Review; Comment Request

April 10, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Forest Landscape Value and Special Area Place Mapping for National Forest Planning.

OMB Control Number: 0596-NEW.

Summary of Collection: The Forest Service (FS) is authorized under the 1976 National Forest Management Act (NFMA) (16 U.S.C., Sec. 1600-1614), the National Environmental Policy Act of 1969, and the proposed 2008 NFMA Planning Rule (36 CFR, part 219) to collect information pertaining to national forest values for use in the preparation of land management plans. The purpose of landscape value and special-place mapping as a part of the public participation process is to provide national forest land managers and planners with scientifically credible information about forest values from a broad representation of the public and from citizens who express interest in a national forest's planning process.

Need and Use of the Information: The national forests will invite the public to share values regarding specific forest landscapes and special places. Forest planners and managers will use the information in the revision of specific national forest plans and to develop land management plans that are consistent with public values, while working within the regulatory framework. This information will be collected using an Internet-based geographic information system (GIS) and a comparable paper-based system provided to individuals without access to the Internet.

Description of Respondents: Individuals or households.

Number of Respondents: 5,500.

Frequency of Responses: Reporting: One time.

Total Burden Hours: 2,685.

Charlene Parker,
Departmental Information Collection Clearance Officer.

[FR Doc. E9-8648 Filed 4-14-09; 8:45 am]

BILLING CODE 3410-11-P